DEPARTMENT OF THE TREASURY

Bureau of Engraving and Printing

Meaningful Access to United States Currency for Blind and Visually Impaired Persons

AGENCY: Bureau of Engraving and Printing, Department of the Treasury.

ACTION: Notice of proposed agency action and request for public comments.

SUMMARY: The Department of the Treasury (Treasury) and the Bureau of Engraving and Printing (BEP) are issuing this Notice pursuant to the ruling in American Council of the Blind v. Paulson that ordered Treasury to provide meaningful access to U.S. currency to people who are blind and visually impaired pursuant to section 504 of the Rehabilitation Act of 1973, as amended. BEP seeks to develop a solution that fully complies with the Court's order and provides people who are blind and visually impaired meaningful access to U.S. currency, while also giving appropriate consideration to the interests of domestic and international users of currency, U.S. businesses, and cash handling and cash-intensive industries. The purposes of this Federal Register Notice are to inform the public of the features that BEP intends to propose to the Secretary of the Treasury to accommodate people who are blind and visually impaired in denominating U.S. currency, and to solicit public comment on the proposed accommodations.

DATES: Submit comments on or before August 18, 2010.

ADDRESSES: See SUPPLEMENTARY INFORMATION section for meeting addresses and information about submitting public comments.

FOR FURTHER INFORMATION CONTACT: Ellen Gano, 202-874-1200.

SUPPLEMENTARY INFORMATION: By statute, the Secretary of the Treasury has sole authority for approving designs of U.S. Federal Reserve notes (U.S. currency). To develop the designs, Treasury works in collaboration with the Board of Governors of the Federal Reserve System (Board) and the Department of Homeland Security's United States Secret Service (USSS), through the Advanced Counterfeit Deterrence (ACD) Steering Committee.¹ As a general guideline, the ACD has recommended that Treasury redesign Federal Reserve notes every seven to ten years to deter counterfeiting by anticipating advances in technologies. The most recent redesign of the currency commenced in 2003, and the final note in that series of currency design is in production. As Treasury begins its design plans for a new family of currency, Treasury and BEP will incorporate additional features to accommodate people who are blind and visually impaired. Although it is somewhat difficult to provide a specific date or time frame as to when the redesign of this new family of currency will be completed, BEP is required by the Court's order to “take such steps as may be required to provide meaningful access to United States currency for blind and other visually impaired persons * * * not later than the date when a redesign of that denomination is next approved by the Secretary of the Treasury.”

¹ The ACD Steering Committee was established by charter in 1982 to recommend designs to the Secretary of the Treasury for Federal Reserve notes. The ACD Steering Committee is chaired by the Treasury's Under Secretary for Domestic Finance. Its members include the senior representatives from the Department of the Treasury, Treasury's Bureau of Engraving and Printing, the Federal Reserve System, and the USSS.

In anticipation of this endeavor, in January of 2008, BEP commissioned a comprehensive study to (1) review and analyze the needs of the blind and visually impaired relating to the identification of U.S. currency through focus groups, surveys, and usability tests; (2) examine various methods that might improve access to the currency by the blind and visually impaired through discussions with subject matter experts, foreign currency experts, and advocacy groups; (3) perform a cost impact analysis of possible accommodations on various government and industry sectors; and (4) provide a decision model, by which BEP could evaluate various potential accommodations. See Final Report: Study to Address Options for Enabling the Blind and Visually Impaired Community to Denominate U.S. Currency, July 2009 (Study), which can be found on the BEP Web site at http://www.bep.gov/uscurrency/meaningfulaccess.html.

Although there are a wide variety of definitions and methodologies to define blindness and visual impairment, the Study used the following definitions: it defined blind individuals as those who have no useful vision for reading any amount of print, and visually impaired individuals as those who have difficulty seeing but are able to read some print (with or without corrective lenses).

Summary of Proposed Design Modifications

Based upon the Study's findings and BEP's own expertise in manufacturing U.S. currency, BEP proposes to recommend to the Secretary of the Treasury the following:

I. Tactile Feature. As part of the next currency redesign, BEP will develop and deploy a raised tactile feature that builds upon current tactile feature technologies. The tactile feature will be unique to each Federal Reserve note denomination that it may lawfully change, and will provide users with a means of identifying each denomination by way of touch.²

² The Department of the Treasury is not permitted to redesign the $1 note. The Omnibus Appropriations Act of 2009, Public Law 111-8, Section 111, states that “None of the funds appropriated in this Act or otherwise available to the Department of the Treasury or the Bureau of Engraving and Printing may be used to redesign the $1 Federal Reserve note.” In addition, the Court's October 3, 2008 order explicitly excluded the $1 note and the soon to be released $100 note.

II. Large, High-Contrast Numerals. Consistent with current practice, BEP will continue its practice of adding large, high-contrast numerals and different and distinct color schemes to each denomination that it is permitted by law to alter to further assist visually impaired citizens.

III. Supplemental Currency Reader Program. BEP also proposes to recommend to the Secretary of the Treasury a supplemental measure that will be taken in order to provide access to U.S. currency. This measure would involve a process to loan and distribute currency readers to the blind and visually impaired at no cost to them. BEP believes this process will ameliorate difficulties stemming from the transition that will occur during the co-circulation of notes with and without a tactile feature and large, high contrast numerals, a transition which will persist for many years after the introduction of the tactile-enhanced note.

In addition, BEP will continue to explore emerging technological solutions to provide access to U.S. currency, such as the development of software to enable blind and visually impaired individuals to fully access U.S. currency. Some of the options include the development and deployment of assistive software to enable banknote denomination using cellular phones, computers, and imaging and reading devices.

Recommendation Details

I. Tactile Feature: BEP will develop and incorporate a raised tactile feature that will accommodate people who are blind and visually impaired. This feature will enable blind and visually impaired individuals to identify currency by touching the tactile feature. The Study demonstrated that raised tactile features allow most blind and visually impaired individuals to denominate currency. Indeed, this kind of feature is used in some foreign currency, and the Study's data indicated that this feature was more effective than virtually every other kind of accommodation tested, including different-sized notes. Additionally, a raised tactile feature would not cause a major disruption to the general population because the notes will not appear substantially different from their current form.

BEP recognizes that implementing a raised tactile feature will pose some challenges. First, the Study showed that current tactile technology wears out eventually, so the effectiveness of the feature diminishes over time. In addition, the Study showed that a raised tactile feature would impose costs on both government and industry. For example, some major cash handlers expressed concern over stacking, mechanical counting, examination, and finishing processes of notes with raised tactile features. The banking industry echoed the major cash handlers' concern of equipment malfunctions caused by jams and added concerns that increased jams would require higher inventory levels with associated increased carrying costs to ensure sufficient cash would be available at all times. In addition, BEP will need to put forth a comprehensive public education program for all users of U.S. currency to acquaint them with the new tactile feature.

The selection of the raised tactile feature will require additional targeted research, testing, and consideration of the public comments. Nonetheless, the significant benefits of notes with a tactile feature, including the excellent accuracy results the blind and visually impaired achieved with them, the ease of use evidenced both by the usability tests and applicable scientific research, and the relatively minimal impact on the general U.S. population, supports the inclusion of a raised tactile feature as a recommended accommodation despite its challenges. Based on experience, independent research, and the Study, BEP believes it can develop a raised tactile feature that is durable and can be incorporated into its existing manufacturing systems at a reasonable cost, coincident with the introduction of the next design series of U.S. currency.

BEP invites comment on its proposal to incorporate raised tactile features in the next redesign of its currency.

II. Large, High-Contrast Numerals: BEP began incorporating large, high-contrast numerals into Federal Reserve notes beginning with the Series 1996 design $50 note in October 1997. In March 2008, BEP increased the size of the large high contrast numeral with the introduction of the Series 2006 $5 note. The feedback received from visually impaired individuals has been positive. This feature will be continued in the new-design $100 note, which is the last in the Series 2004 family of designs. Because BEP has experience printing this feature and the visually impaired community has provided positive feedback on it, BEP proposes to continue using this feature in the next design for U.S. currency. BEP is aware, however, that there may be a number of options concerning the size, color, placement, background contrast and other features for these large numerals that may improve accessibility of currency for persons with low-vision. BEP invites comment from the public, including persons with low-vision, about the best choices for the proposed large, high-contrast numerals.

III. Supplemental Currency Reader Program: BEP will establish a supplemental currency reader distribution program. The purpose of the program is to provide blind and visually impaired people a means that can be used independently to correctly identify the denomination of U.S. currency. In compliance with legal requirements, BEP will loan a currency reader device to all blind and visually impaired U.S. citizens and legal residents, who wish to avail themselves of this program. The individual may borrow the reader for as long as the individual desires the assistance of the reader. Before a reader is distributed, BEP first will verify that the requestor is eligible.

Under the reader program, individuals who are United States citizens or persons legally residing in the United States who are blind or visually impaired and who need a reader to accurately identify the denomination of U.S. currency will be able to obtain a reader at no cost to the individual. BEP will define blind or visually impaired under the same definition as the Study, with the following change to the Study's definition of visual impairment: The reader program will not extend to visually impaired individuals whose impairment is corrected with ordinary eyeglasses or contact lenses.

BEP is considering the scope of an appropriate verification framework to determine eligibility to receive a reader. Specifically, it is considering a framework inspired by the eligibility requirements that the Library of Congress uses when loaning library materials to blind and other disabled persons as set forth in 36 CFR 701.6. Under that framework, applicants may submit verification of their eligibility from a “competent authority.” BEP would define a “competent authority as one of the following: doctors of medicine, doctors of osteopathy, doctors of optometry, registered nurses, and licensed practical nurses.

Alternatively, if a person who is blind or visually impaired has verification of visual impairment from another Federal agency, including the Social Security Administration, the Library of Congress, or a State or local agency, that person need only submit a copy of that verification. BEP is inviting comments on whether this verification system is appropriate, or whether other frameworks would be more appropriate.

Parents or legal guardians of a blind or visually impaired child under 18, and caregivers, legal guardians, or those with power of attorney for a U.S. citizen or someone legally residing in the U.S. may act as a proxy on behalf of the blind or visually impaired child or represented individual and request a currency reader. BEP will require verification for the child or represented individual.

BEP will solicit and award a single, long-term contract to implement the currency reader program. The contractor will be designated as the Currency Reader Program Coordinator (CRPC). Once the program is operational, a potentially eligible person may request a currency reader by contacting the CRPC and completing and submitting a request form. Depending on the verification framework adopted, upon verification of eligibility, the person will be provided a reader. If an individual believes that the CRPC erroneously denied him or her a reader, the individual may appeal the decision to the appropriate authority at BEP, who will be designated after BEP awards the CRPC contract.

Except for the postage to mail application forms to the CRPC, the user should not have to expend any funds for the reader. Any fees for shipping and the initial battery will be borne by the provider. Readers will be delivered by mail. There will be a “one reader per verified eligible person” limit. Though there is a “one reader” limit, an eligible individual may receive a replacement reader from the CRPC upon request if the circumstances, such as a lost, damaged, or obsolete reader, are reasonable and warrant replacement.

The CRPC will also establish a selection of approved reader suppliers. BEP anticipates that more than one reader supplier may be authorized by the CRPC to provide readers and will seek to keep costs low by requiring suppliers to meet the lowest price in order to be a program participant. The CRPC shall:

1. Be responsible for overall implementation and operation of the program pursuant to a government contract;

2. Have the program operational within six months after contract award;

3. Communicate with eligible persons via mail, Braille, e-mail, phone, fax, TTY, and Web site;

4. Maintain a help desk for a minimum of ten hours a day, five days a week;

5. Be able quickly to scale up or down staffing resources to react to demand on the program;

6. Accept requests for readers;

7. Verify eligibility, using the appropriate criteria;

8. Within three weeks of receiving a request, either provide a reader to a requester deemed eligible or inform said person that he or she does not meet the eligibility criteria;

9. Establish a formal CRPC Authorized Supplier Program, with documented contractual controls and agreements between the CRPC and each supplier;

10. Monitor each supplier's operation;

11. Certify each supplier's reader products;

12. Publicize a list of approved suppliers and products;

13. Establish payment mechanisms for authorized suppliers;

14. Evaluate and possibly add new reader suppliers as they enter the market;

15. Suspend reader suppliers if they fail to perform;

16. Establish internal controls to assist BEP in preventing fraud, waste, and abuse; and obtain an annual independently verified SAS-70 Report (Type II) of those controls;

17. Maintain a database of each person who requested a reader, was issued a reader, or was denied a reader, and for readers issued, which reader (including its serial number) was issued to which person;

18. Implement privacy controls; and

19. Ensure that all CRPC Authorized Suppliers are able and contractually obligated to:

a. Provide a reader that quickly and accurately denominates U.S. currency;

b. Interact with verified eligible persons via mail, Braille, e-mail, phone, fax, TTY, and Web site;

c. Provide readers directly to verified eligible persons if necessary;

d. Provide accessible instructional materials on how to use the reader;

e. Provide readers that use a non-proprietary battery;

f. Provide readers with unique serial numbers for accountability;

g. Provide at least a one-year parts and labor warranty on each reader;

h. Provide free return postage for malfunctioning readers and for warranty service; and

i. Recognize that the selection of a reader is based on the free market and personal choice and that there is no minimum quantity of readers that the government guarantees from any supplier.

BEP will assess the structure of this program on a continuing basis and implement changes as needed to enhance its effectiveness or efficiency.

Funding

The Board pays BEP for its currency-related expenses, which are primarily the costs of producing new currency. BEP's costs associated with incorporating the proposed tactile and large, high-contrast numeral features would be funded by the Board, as are the costs of other design elements for U.S. currency. BEP plans also to charge the Board for the costs associated with the proposed currency readers. Because the U.S. District Court for the District of Columbia determined that BEP is required by the Rehabilitation Act to provide meaningful access to U.S. currency, BEP believes these costs represent a necessary expense that may be appropriately charged to the Board.

Questions for Comment

Treasury welcomes all comments and suggestions regarding the proposed solutions. Treasury is particularly interested, however, in comments on the specific questions set forth below:

1. What would be the ideal placement of the raised tactile feature? In what kind of pattern or patterns should the raised tactile feature be arranged?

2. How should the large, high contrast numerals be incorporated? In other words, what colors should BEP use, what is the optimal size of the numerals, and where should the numerals be placed on the note?

3. What background colors would provide the highest color contrast for people who are visually impaired?

4. What technological solutions should BEP explore to help people who are blind and visually impaired denominate currency?

5. What is the nature of the burden, if any, on the general public of including a raised tactile feature on U.S. currency?

6. If there are any burdens imposed on the public by a raised tactile feature on currency, how can such burdens be minimized?

7. What is the nature of the burden, if any, on industry and business of including a raised tactile feature on U.S. currency?

8. If there are such burdens, how can they be minimized?

9. Does the supplemental currency reader program impose a burden on the blind and visually impaired?

10. If so, what are those burdens, and how can they be minimized?

11. Does a verification process of the currency reader program inspired by the Library of Congress process impose too a great a burden on the blind and visually impaired?

12. If so, what are those burdens, and how can they be minimized?

13. Alternatively, if a person who is blind or visually impaired has verification of visual impairment from another Federal agency (such as the Social Security Administration or Library of Congress), or a State or local agency, should BEP allow that person to submit a copy of that verification in order to satisfy a proof of visual impairment requirement in order to obtain a currency reader? If so, what burdens might this impose, and how can those burdens be minimized?

14. Should BEP consider working with local governments and/or State agencies to deliver the currency readers?

15. Should BEP consider additional or different criteria when determining eligibility for the currency reader program?

16. What administrative and/or operational challenges does the currency reader program create?

Electronic Submission of Comments, Electronic Access and Mailing Address

Regulations.gov offers the public the ability to comment on, search, and view publicly available rulemaking materials, including comments received on rules. Follow the on-line instructions for submitting comments. You may also e-mail electronic comments to meaningful.access@bep.gov. You may fax comments to 202-874-1212. Please mail any written comments to Meaningful Access, Bureau of Engraving and Printing, Office of External Relations, 14th and C Streets, SW., Room 530-1M, Washington, DC 20228.

In general, comments received will be published on Regulations.gov without change, including any business or personal information provided. Comments received, including attachments and other supporting materials, are part of the public record and subject to public disclosure. Do not enclose any information in your comment or supporting materials that you consider confidential or inappropriate for public disclosure.

You may also inspect and copy comments at: Treasury Department Library, Freedom of Information Act (FOIA) collection, Room 1428, Main Treasury Building, 1500 Pennsylvania Avenue, NW., Washington, DC 20220. Before visiting, you must call (202) 622-0990 for an appointment.

Public Forum

BEP will host two open public forums simultaneously on June 22, 2010. One will be held at the Eastern Currency Facility (14th and C Streets, SW., Washington, DC 20228) and the other at the Western Currency Facility (9000 Blue Mound Road, Ft. Worth, TX 76131). BEP representatives will be available to discuss the proposed accommodations for meaningful access and to hear public comment. Registration to attend the public forum (at either the Washington, DC or Fort Worth, TX facility) must be made by calling (877) 874-4114. Because the BEP is a secure Federal installation, all attendees must pre-register for the public forum by providing their name and are subject to magnetometer inspection and their bags are subject to x-ray prior to entering and upon exiting the facility. To ensure your access, please notify BEP of your intent to attend by 5 p.m., EDT on June 18, 2010.

Larry R. Felix,
Director.

[FR Doc. 2010-12091 Filed 5-19-10; 8:45 am]

BILLING CODE 4840-01-P